DEPARTMENT OF COMMERCE

National Oceanic and Atmospheric Administration

50 CFR Part 660

[Docket No. 110111018-1095-02]

RIN 0648-XA109

Fisheries Off West Coast States; Coastal Pelagic Species Fisheries; Annual Specifications

AGENCY: National Marine Fisheries Service (NMFS), National Oceanic and Atmospheric Administration (NOAA), Commerce.

ACTION: Temporary emergency rule; interim measures.

SUMMARY: NMFS is suspending directed fishing for Pacific sardine off the coasts of Washington, Oregon and California through June 30, 2011. This action is necessary because the proposed directed harvest allocation total for Pacific sardine the first seasonal period (January 1-June 30) of 15,214 metric tons (mt) is projected to be reached by the effective date of this rule. Under this rule, Pacific sardine may be harvested only as part of the live bait fishery or incidental to other fisheries; the incidental harvest of Pacific sardine is limited to 30-percent by weight of all fish caught per trip. Vessels with Pacific sardine catch must be at shore and in the process of offloading at 12:01 a.m. Pacific Standard Time (PST) on the date of this closure. This rule is necessary to help conserve and manage Pacific sardine off the West Coast.

DATES: Effective 12:01 am PST, March 5, 2011, through June 30, 2011.

FOR FURTHER INFORMATION CONTACT: Joshua Lindsay, Southwest Region, NMFS, (562) 980-4034.

SUPPLEMENTARY INFORMATION: Based on the best available information recently obtained from the fishery and information on past effort, the proposed 2011 directed fishing harvest allocation for Pacific sardine for the first period (January 1-June 30) of fishing year 2011 has been reached. Accordingly, NMFS is closing directed fishing for Pacific sardine until the beginning of the next fishing period for this species on July 1, 2011. Vessels with Pacific sardine catch must be at shore and in the process of offloading at the time of this closure. From 12:01 a.m. on the date of closure through June 30, 2011, Pacific sardine may be harvested only as part of the live bait fishery or incidental to other fisheries, with the incidental harvest of Pacific sardine limited to 30-percent by weight of all fish caught during a trip. This action is necessary to avoid overfishing and ensure orderly management of the 2011 Pacific sardine fishery in anticipation of approval and implementation of the 2011 Pacific sardine annual specifications. NMFS anticipates the second and third allocation periods of the 2011 fishing season being managed under those annual specifications.

NMFS manages the Pacific sardine fishery in the U.S. exclusive economic zone (EEZ) off the Pacific coast (California, Oregon, and Washington) under the Magnuson-Stevens Fishery Conservation and Management Act, 16 U.S.C. 1801 et seq., in accordance with the Coastal Pelagic Species (CPS) Fishery Management Plan (FMP). Additionally, the Magnuson-Stevens Act provides that, where necessary to prevent overfishing, NMFS may issue an emergency rule to address the overfishing concern (18 U.S.C. 1855(c)). Each year, NMFS publishes annual specifications in the Federal Register to establish the harvest guideline (HG) and seasonal allocations for each fishing season (January 1-December 31). Per the framework in the CPS FMP, if, during any of the seasonal allocation periods, the applicable adjusted directed harvest allocation is projected to be taken, only incidental harvest is allowed. These seasonal allocations were established as mechanisms to prevent overfishing and provide equitable opportunity to the resource.

The above in-season harvest restrictions are not intended to affect the prosecution of the live bait portion of the Pacific sardine fishery.

Classification

This interim rule has been determined to be not significant for purposes of Executive Order 12866.

NMFS finds good cause to waive the requirement to provide prior notice and opportunity for public comment pursuant to the authority set forth at 5 U.S.C. 553(b)(B) for the closure of the directed harvest of Pacific sardine. For the reasons set forth below, notice and comment procedures are impracticable and contrary to the public interest. For the same reasons, NMFS also finds good cause under 5 U.S.C. 553(d)(3) to waive the 30-day delay in effectiveness for this action. This measure is necessary for the conservation and management of the Pacific sardine resource while the rulemaking process for the 2011 Pacific sardine annual specifications is finalized. A delay in effectiveness of this action would cause the fishery to exceed a proposed seasonal allocation. The seasonal allocation framework established in the FMP is an important mechanism to prevent overfishing, and is designed to allow fair and equitable opportunity to the resource by all sectors of the Pacific sardine fishery. Delaying the effective date of this rule is therefore impracticable, because any delay would decrease the Pacific sardine stock. Delay is also contrary to the public interest, because additional reduction of Pacific sardine beyond the incidental take limit set out in this action would decrease the future stock of the species, as well as harvest limits, thereby reducing future potential catch of the stock along with the profits associated with those harvests.

Authority: 16 U.S.C. 1801 et seq.

Dated: February 28, 2011.
Samuel D. Rauch III,
Deputy Assistant Administrator for Regulatory Programs, National Marine Fisheries Service.

[FR Doc. 2011-4922 Filed 3-1-11; 4:15 pm]

BILLING CODE 3510-22-P